ENVIRONMENTAL PROTECTION AGENCY

[FRL-9964-54-Region 1]

Program Requirement Revisions Related to the Public Water System Supervision Programs for the State of Connecticut, the Commonwealth of Massachusetts, the State of New Hampshire, the State of Rhode Island and the State of Vermont

AGENCY: Environmental Protection Agency (EPA).

ACTION: Notice.

SUMMARY: Notice is hereby given that the State of Connecticut, the Commonwealth of Massachusetts, the State of New Hampshire, the State of Rhode Island, and the State of Vermont are in the process of revising their respective approved Public Water System Supervision (PWSS) programs to meet the requirements of the Safe Drinking Water Act (SDWA).

DATES: All interested parties may request a public hearing for any of the above EPA determinations. A request for a public hearing must be submitted by August 16, 2017, to the Regional Administrator at the address shown below. Frivolous or insubstantial requests for a hearing may be denied by the Regional Administrator.

However, if a substantial request for a public hearing is made by this date, a public hearing will be held. If no timely and appropriate request for a hearing is received, and the Regional Administrator does not elect to hold a hearing on his/her own motion, this determination shall become final August 16, 2017.

Any request for a public hearing shall include the following information: (1) The name, address, and telephone number of the individual organization, or other entity requesting a hearing; (2) a brief statement of the requesting person's interest in the Regional Administrator's determination; (3) information that the requesting person intends to submit at such hearing; and (4) the signature of the individual making the request, or if the request is made on behalf of an organization or other entity, the signature of a responsible official of the organization or other entity.

ADDRESSES: All documents relating to this determination are available for inspection between the hours of 8:30 a.m. and 4:00 p.m., Monday through Friday, at the following office(s):

U.S. Environmental Protection Agency, Office of Ecosystem Protection, 5 Post Office Square, Suite 100, Boston, MA 02109-3912

For state-specific documents:

Connecticut Department of Public Health, Drinking Water Section, 410 Capital Avenue, Hartford, CT 06134

Massachusetts Department of Environmental Protection, Division of Water Supply, 1 Winter Street, 6th Floor, Boston, MA 02108

New Hampshire Department of Environmental Services, Drinking Water and Groundwater Bureau, 29 Hazen Drive, Concord, NH 03302-0095

Rhode Island Department of Public Health, Division of Drinking Water Quality, 3 Capitol Hill, Providence, RI 02908-5097

Vermont Agency of Natural Resources, Department of Environmental Conservation, Drinking Water & Groundwater Protection Division, Main Building—2nd Floor, One National Life Drive, Montpelier, Vermont 05620-3521

FOR FURTHER INFORMATION CONTACT: Jeri Weiss, U.S. EPA—New England, Office of Ecosystem Protection (telephone 617-918-1568).

SUPPLEMENTARY INFORMATION: The State of Connecticut has adopted drinking water regulations for the Lead and Copper Minor Revisions Rule (65 FR 1950) promulgated on January 12, 2000, the Lead and Copper Short Term Revisions Rule (72 FR 57782) promulgated on October 10, 2007, and the Radionuclides Rule (65 FR 76708-76753) promulgated on December 7, 2000. After review of the submitted documentation, EPA has determined that the State of Connecticut's Lead and Copper Minor Revisions Rule, the Lead and Copper Short Term Revisions Rule, and the Radionuclides Rule are no less stringent than the corresponding federal regulations. Therefore, EPA intends to approve Connecticut's PWSS program revision for these rules.

The Commonwealth of Massachusetts has adopted drinking water regulations for the Lead and Copper Minor Revisions Rule (65 FR 1950) promulgated on January 12, 2000, and the Lead and Copper Short Term Revisions Rule (72 FR 57782) promulgated on October 10, 2007. After review of the submitted documentation, EPA has determined that the Commonwealth of Massachusetts' Lead and Copper Minor Revisions Rule and the Lead and Copper Short Term Revisions Rule are no less stringent than the corresponding federal regulations. Therefore, EPA intends to approve Massachusetts' PWSS program revision for these rules.

The State of New Hampshire has adopted drinking water regulations for the Lead and Copper Rule (56 FR 26460-26564) promulgated on June 7, 1991 and the Lead and Copper Minor Revisions Rule (65 FR 1950) promulgated on January 12, 2000. After review of the submitted documentation, EPA has determined that the state of New Hampshire's Lead and Copper Rule and the Lead and Copper Minor Revisions Rule are no less stringent than the corresponding federal regulations. Therefore, EPA intends to approve New Hampshire's PWSS program revision for these rules.

The State of Rhode Island has adopted drinking water regulations for the Long Term 2 Enhanced Surface Water Treatment Rule (71 FR 654) promulgated on January 5, 2006. After review of the submitted documentation, EPA has determined that the State of Rhode Island's Long Term 2 Enhanced Surface Water Treatment Rule is no less stringent than the corresponding federal regulations. Therefore, EPA intends to approve Rhode Island's PWSS program revision for this rule.

The State of Vermont has adopted drinking water regulations for the Lead and Copper Minor Revisions Rule (65 FR 1950) promulgated on January 12, 2000, and the Lead and Copper Short Term Revisions Rule (72 FR 57782) promulgated on October 10, 2007. After review of the submitted documentation, EPA has determined that the State of Vermont's Lead and Copper Minor Revisions Rule and the Lead and Copper Short Term Revisions Rule are no less stringent than the corresponding federal regulations. Therefore, EPA intends to approve Vermont's PWSS program revision for these rules.

Authority: Section 1401 (42 U.S.C 300f) and Section 1413 (42 U.S.C 300g-2) of the Safe Drinking Water Act, as amended (1996), and (40 CFR 142.10) of the National Primary Drinking Water Regulations.

Dated: June 26, 2017.
Deborah A. Szaro,
Acting Regional Administrator, EPA Region 1—New England.

[FR Doc. 2017-14836 Filed 7-14-17; 8:45 am]

BILLING CODE 6560-50-P